DEPARTMENT OF HEALTH AND HUMAN SERVICES

Centers for Medicare & Medicaid Services

[Document Identifier: CMS R-193 and CMS-2567]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Important Message from Medicare Title XVII Section 1866(a)(1)(M), 42 CFR Sections 466.78, 489.20, and 489.27; Form Number: CMS-R-193 (OMB#: 0938-0692); Use: Hospitals participating in the Medicare program are required to distribute the “Important Message From Medicare” to all Medicare beneficiaries (including those enrolled in a Medicare managed care health plan). Hospitals must distribute this notice at or about the same time of a Medicare beneficiary's admission or during the course of his or her hospital stay. Receiving this information will provide all Medicare beneficiaries with some ability to participate and/or initiate discussions concerning actions that may affect their Medicare coverage, payment, and appeal rights in response to a hospital's or Medicare managed care plan's notification that their care will no longer continue; Frequency: Recordkeeping and Reporting—Other: Distribution; Affected Public: Individuals or Households, Business or other for-profit, Not-for-profit institutions, Federal, State, Local or Tribal Government; Number of Respondents: 6,051; Total Annual Responses: 12,500,000; Total Annual Hours: 208,333.

2. Type of Information Collection Request: Extension of a currently approved collection; Title of Information Collection: Statement of Deficiencies and Plan of Correction contained under 42 CFR 488.18, 488.26, and 488.28; Form Number: CMS-2567 (OMB#: 0938-0391); Use: Section 1864(a) of the Social Security Act requires that the Secretary use State survey agencies to conduct surveys. The surveys are used to determine if health care facilities meet Medicare, Medicaid, and Clinical Laboratory Improvement Amendments (CLIA) participation requirements. The Statement of Deficiencies and Plan of Correction form, is used to record each deficiency discovered during an inspection. Providers, suppliers and CLIA laboratories also utilize this form to outline a corrective action plan for each deficiency. The States and CMS regional offices use this form to document and certify compliance, and to disclose information to the public; Frequency: Recordkeeping, Third party disclosure and Reporting—Annually and Biennially; Affected Public: Business or other for-profit, Not-for-profit institutions, Federal, State, Local or Tribal Government; Number of Respondents: 60,000; Total Annual Responses: 60,000; Total Annual Hours: 120,000.

To obtain copies of the supporting statement and any related forms for these paperwork collections referenced above, access CMS Web site address at http://www.cms.hhs.gov/regulations/pra/, or e-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on January 23, 2006. OMB Human Resources and Housing Branch, Attention: Carolyn Lovett, CMS Desk Officer, New Executive Office Building, Room 10235, Washington, DC 20503.

Dated: December 14, 2005.
Michelle Shortt,
Director, Regulations Development Group, Office of Strategic Operations and Regulatory Affairs.

[FR Doc. 05-24302 Filed 12-22-05; 8:45 am]

BILLING CODE 4120-01-P